NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times:

November 5, 2003; 8 a.m.-8 p.m. (open 9-12:30, 1:30-3:45, 7:30-8).

November 6, 2003; 8 a.m.-4 p.m. (closed 8-4).

Place: University of Virginia, Charlottesville, VA.

Type of Meeting: Part open.

Contact Person: Dr. Thomas Rieker, Program Director, Materials Research Science and Engineering Centers, Division of Materials Research, Room 1065, National Science Foundation, 4201 Wilson Boulevard, Arlington, VA 22230, Telephone (703) 292-4914.

Purpose of Meeting: To provide advice and recommendations concerning progress of Materials Research Science and Engineering Center.

Agenda:

November 5, 2003—Open for Director's overview of Materials Research Science and Engineering Center and presentations.

Agenda:

November 6, 2003—Closed to review and evaluate progress of Materials Research Science and Engineering Center.

Reason for Closing: The work being reviewed may include information of a proprietary or confidential nature, including technical information; financial data, such as salaries and personal information concerning individuals associated with the proposals. These matters are exempt under 5 U.S.C. 552b(c), (4) and (6) of the Government in the Sunshine Act.

Dated: October 21, 2003.
Susanne Bolton,
Committee Management Officer.

[FR Doc. 03-26848 Filed 10-23-03; 8:45 am]

BILLING CODE 7555-01-M